DEPARTMENT OF ENERGY

Federal Energy Regulatory Commission

[Project No. 11870-000, New Hampshire]

Goodrich Falls Hydro Electric Company; Notice of Availability of Environmental Assessment

March 15, 2002.

In accordance with the National Environmental Policy Act of 1969 and the Federal Energy Regulatory Commission's (Commission) regulations, 18 CFR part 380 (Order No. 486, 52 FR 47897), the Office of Energy Projects has reviewed the application for exemption from licensing of the Goodrich Falls Project, located on the Ellis River, in Carroll County, New Hampshire, and has prepared an Environmental Assessment (EA) for the project. There are no Federal lands, including Indian reservations, occupied by project works or located within the project boundary.

The EA contains the staff's analysis of the potential environmental impacts of the proposed exemption and concludes that issuance of an exemption from licensing for the Goodrich Falls Hydroelectric Project would not constitute a major Federal action that would significantly affect the quality of the human environment.

A copy of the EA is on file with the Commission and is available for public inspection. The EA may also be viewed on the web at http://www.ferc.gov using the “RIMS” link-select “Docket #” and follow the instructions (call 202-208-2222 for assistance).

For further information, contact John Ramer at (202) 219-2833.

Linwood A. Watson, Jr.,
Deputy Secretary.

[FR Doc. 02-6789 Filed 3-20-02; 8:45 am]

BILLING CODE 6717-01-P